DEPARTMENT OF THE INTERIOR

Bureau of Land Management

[16X.LLAZ956000.L14400000.BJ0000.LXSSA225000.241A]

Notice of Filing of Plats of Survey; Arizona

AGENCY: Bureau of Land Management, Interior.

ACTION: Notice of filing of plats of survey; Arizona.

SUMMARY: The plats of survey of the described lands were officially filed in the Arizona State Office, Bureau of Land Management, Phoenix, Arizona, on dates indicated.

SUPPLEMENTARY INFORMATION:

The Gila and Salt River Meridian, Arizona

The plat representing the dependent resurvey of a portion of the east boundary and a portion of the subdivisional lines, and the subdivision of section 25, Township 3 North, Range 5 East, accepted December 10, 2015, and officially filed December 11, 2015, for Group 1141, Arizona.

This plat was prepared at the request of the Bureau of Indian Affairs.

The plat representing the dependent resurvey of a portion of the east boundary, a portion of the south and west boundaries of the Fort McDowell Indian Reservation and a portion of the subdivisional lines defining the north boundary of the Salt River Pima Maricopa Indian Community, Township 3 North, Range 6 East, accepted December 10, 2015, and officially filed December 11, 2015, for Group 1141, Arizona.

This plat was prepared at the request of the Bureau of Indian Affairs.

The plat representing the dependent resurvey of a portion of the west boundary and a portion of the subdivisional lines, the subdivision of section 30, and a metes-and-bounds survey in section 30, Township 3 North, Range 6 East, accepted December 10, 2015, and officially filed December 11, 2015, for Group 1141, Arizona.

This plat was prepared at the request of the Bureau of Indian Affairs.

The plat representing the dependent resurvey of a portion of the south boundary of the Fort McDowell Indian Reservation and a portion of the west boundary, Township 3 North, Range 7 East, accepted December 10, 2015, and officially filed December 11, 2015, for Group 1141, Arizona.

This plat was prepared at the request of the Bureau of Indian Affairs.

The plat representing the dependent resurvey of Homestead Entry Survey No. 88, and the survey of Small Tracts Act Survey AZ. No. 12, Township 13 North, Range 10 East, accepted November 17, 2015, and officially filed November 18, 2015, for Group 1123, Arizona.

This plat was prepared at the request of the United States Forest Service.

The plat representing the dependent resurvey of a portion of the south boundary of Township 14 North, Range 10 East, and the dependent resurvey of Homestead Entry Survey No. 178, Townships 13 and 14 North, Range 10 East, accepted January 7, 2016, and officially filed January 8, 2016, for Group 1123, Arizona.

This plat was prepared at the request of the United States Forest Service.

The plat representing the dependent resurvey of a portion of the north boundary and a portion of the subdivisional lines, and the subdivision of section 5,Township 14 North, Range 10 East, accepted November 17, 2015, and officially filed November 18, 2015, for Group 1123, Arizona.

This plat was prepared at the request of the United States Forest Service.

The plat representing the dependent resurvey of a Hopi-Navajo Partion Line, Segment “D”, the survey of a portion of the south boundary, the survey of the east and north boundaries, a portion of the subdivisional lines, and the subdivision of certain sections, Township 35 North, Range 15 East, accepted January 13, 2016, and officially filed January 14, 2016, for Group 1133, Arizona.

This plat was prepared at the request of the Bureau of Indian Affairs.

The plat representing the corrective resurvey of portions of the north boundary and a portion of the subdivisional lines, and the subdivision of sections 1 and 12, Township 21 North, Range 29 East, accepted November 17, 2015, and officially filed November 19, 2015, for Group 957, Arizona.

This plat was prepared at the request of the Bureau of Indian Affairs.

The supplemental plat showing the correction to the location of Mineral Survey No. 542, and the subsequent amended lotting, section 33, Township 24 North, Range 17 West, accepted September 9, 2015, and officially filed September 10, 2015, for Group 9109, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Gerald T. Davis,
Chief Cadastral Surveyor of Arizona.

[FR Doc. 2016-09032 Filed 4-18-16; 8:45 am]

BILLING CODE 4310-32-P